FEDERAL MARITIME COMMISSION

Notice of Requests for Additional Information; Pacific Ports Operational Improvements Agreement

The Commission gives notice that it has formally requested that the parties to the below listed agreement provide additional information pursuant to 46 U.S.C. 40304(d). This action prevents the agreement from becoming effective as originally scheduled. Interested parties may file written comments, including relevant information and documents, regarding the agreement to the Secretary by email at Secretary@fmc.gov, or by mail, Federal Maritime Commission, 800 North Capitol Street, Washington, DC 20573. Comments may be filed up to fifteen (15) days after publication of this notice appears in the Federal Register.

Agreement No.: 201227-006.

Title: Pacific Ports Operational Improvements Agreement.

Parties: Ocean Carrier Equipment Management Association, Inc., FMC Agreement No. 011284; West Coast MTO Agreement, FMC Agreement No. 201143; Maersk Line A/S; CMA CGM S.A., American President Lines, LLC.; COSCO SHIPPING Lines Co., Ltd.; Evergreen Line Joint Service Agreement, FMC Agreement No. 011982; Hapag-Lloyd AG, Hapag-Lloyd USA (acting as a single party); HMM Company Limited; Zim Integrated Shipping Services; MSC Mediterranean Shipping Company SA; Matson Navigation Company, Inc.; Ocean Network Express Pte. Ltd.; Wan Hai Lines Ltd.; APM Terminals Pacific, LLC; Fenix Marine Services, Ltd.; International Transportation Service LLC; LBCT LLC dba Long Beach Container Terminal LLC; Everport Terminal Services, Inc.; Total Terminals International LLC; West Basin Container Terminal LLC; Pacific Maritime Services, L.L.C.; SSA (Pier A), LLC; Trapac LLC; Yusen Terminals, LLC; SSA Terminals, LLC; SSA Terminals (Oakland), LLC; SSA Terminals (Seattle), LLC; Sea Star Stevedoring Company, Inc.; Washington United Terminals, Inc.

By Order of the Federal Maritime Commission.
Dated: November 12, 2024.
David Eng,
Secretary.

[FR Doc. 2024-26672 Filed 11-14-24; 8:45 am]

BILLING CODE 6730-02-P